INTERNATIONAL TRADE COMMISSION

[USITC SE-23-040]

Sunshine Act Meetings

Agency Holding the Meeting: United States International Trade Commission.

TIME AND DATE: August 31, 2023 at 11:00 a.m.

PLACE: Room 101, 500 E Street SW, Washington, DC 20436, Telephone: (202) 205-2000.

STATUS: Open to the public.

MATTERS TO BE CONSIDERED:

1. Agendas for future meetings: none.

2. Minutes.

3. Ratification List.

4. Commission vote on Inv. No. 731-TA-895 (Fourth Review)(Pure Granular Magnesium from China). The Commission currently is scheduled to complete and file its determinations and views of the Commission on September 8, 2023.

5. Outstanding action jackets: none.

CONTACT PERSON FOR MORE INFORMATION: Sharon Bellamy, Acting Supervisory Hearings and Information Officer, 202-205-2000.

The Commission is holding the meeting under the Government in the Sunshine Act, 5 U.S.C. 552(b). In accordance with Commission policy, subject matter listed above, not disposed of at the scheduled meeting, may be carried over to the agenda of the following meeting.

By order of the Commission.
Issued: August 22, 2023.
Sharon Bellamy,
Acting Supervisory Hearings and Information Officer.

[FR Doc. 2023-18367 Filed 8-22-23; 4:15 pm]

BILLING CODE 7020-02-P